SMALL BUSINESS ADMINISTRATION

[Declaration of Disaster #3520]

Commonwealth of Kentucky

As a result of the President's major disaster declaration on July 2, 2003, I find that Boyd, Breathitt, Carter, Clay, Elliott, Floyd, Greenup, Harlan, Johnson, Knott, Lawrence, Leslie, Letcher, Lewis, Magoffin, Martin, Owsley, Perry, Pike and Rowan Counties in the Commonwealth of Kentucky constitute a disaster area due to damages caused by severe storms, flooding, mud and rock slides, and tornadoes occurring on June 14, 2003 and continuing. Applications for loans for physical damage as a result of this disaster may be filed until the close of business on September 2, 2003 and for economic injury until the close of business on April 2, 2004 at the address listed below or other locally announced locations: Small Business Administration, Disaster Area 2 Office, One Baltimore Place, Suite 300,Atlanta, GA 30308.

In addition, applications for economic injury loans from small businesses located in the following contiguous counties may be filed until the specified date at the above location: Bath, Bell, Fleming, Jackson, Knox, Laurel, Lee, Mason, Menifee, Morgan and Wolfe in the Commonwealth of Kentucky; Adams, Lawrence and Scioto counties in the State of Ohio; Buchanan, Dickenson, Lee and Wise counties in the Commonwealth of Virginia; and Mingo and Wayne counties in the State of West Virginia.

The interest rates are:

| Percent
For Physical Damage:
Homeowners With Credit Available Elsewhere | 5.625
Homeowners Without Credit Available Elsewhere | 2.812
Businesses With Credit Available Elsewhere | 5.906
Businesses and Non-Profit Organizations Without Credit Available Elsewhere | 2.953
Others (Including Non-Profit Organizations) With Credit Available Elsewhere | 5.500
For Economic Injury:
Businesses and Small Agricultural Cooperatives Without Credit Available Elsewhere | 2.953

The number assigned to this disaster for physical damage is 352011. For economic injury the number is 9W2000 for Kentucky; 9W2100 for Ohio; 9W2200 for Virginia; and 9W2300 for West Virginia.

(Catalog of Federal Domestic Assistance Program Nos. 59002 and 59008).

Dated: July 3, 2003.
Allan I. Hoberman,
Acting Associate Administrator for Disaster Assistance.

[FR Doc. 03-17556 Filed 7-10-03; 8:45 am]

BILLING CODE 8025-01-P